DEPARTMENT OF HOUSING AND URBAN DEVELOPMENT

[Docket No. FR-7034-N-09; OMB Collection 2502-0574]

30-Day Notice of Proposed Information Collection: Office of Housing Counseling—Agency Performance Review

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: March 25, 2021.

ADDRESSES: Interested persons are invited to submit comments regarding this proposal. Written comments and recommendations for the proposed information collection should be sent within 30 days of publication of this notice to www.reginfo.gov/public/do/StartPrintedPage15501PRAMain. Find this particular information collection by selecting “Currently under 30-day Review—Open for Public Comments” or by using the search function.

FOR FURTHER INFORMATION CONTACT: Colette Pollard, Reports Management Officer, QDAM, Department of Housing and Urban Development, 451 7th Street SW, Washington, DC 20410; email Colette Pollard at Colette.Pollard@hud.gov or telephone 202-402-3400. This is not a toll-free number. Persons with hearing or speech impairments may access this number through TTY by calling the Federal Relay Service at (800) 877-8339. This is a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on December 17, 2020 at 85 FR 81945.

A. Overview of Information Collection

Title of Information Collection: Office of Housing Counseling—Agency Performance Review.

OMB Approval Number: 2502-0574.

OMB Expiration Date: March 31, 2021.

Type of Request: Revision of a currently approved collection.

Form Number: HUD-9910, Office of Housing Counseling—Performance Review Of a HUD-Approved Housing Counseling Agency or Participating Agency.

Description of the need for the information and proposed use: The information is used to assist HUD in evaluating the managerial and financial capacity of organizations to sustain operations sufficient to implement HUD approved housing counseling programs. The collection of information assists HUD to reduce its own risk from fraudulent activities or supporting inefficient or ineffective housing counseling programs. Since HUD publishes a web list of HUD-approved Housing Counseling Agencies and maintains a toll-free housing counseling hotline, performance reviews help HUD ensure that individuals seeking assistance from these approved agencies can have confidence in the quality of services that they will receive.

HUD uses performance reviews to ascertain the professional and management capacity of HUD-approved Housing Counseling Agencies to provide adequate housing counseling services that are necessary to comply with the requirements of the Housing and Urban Development Act and to ensure that grant funded organizations comply with HUD and OMB administrative and financial regulations. If this information is not collected, HUD would be unable to effectively monitor the Housing Counseling Program to guard against waste, fraud, abuse, or inappropriate program practices. This collection provides the means to meet that obligation.

Respondents (i.e., affected public): Not-for profit institutions; State, Local, or Tribal Governments.

Estimated Number of Respondents: 353 annually.

Estimated Number of Responses: 353 annually.

Frequency of Response: 1 per agency performance review.

Average Hours per Response: 1 hour annually.

Total Estimated Burden: 353 hours.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

(5) Ways to minimize the burden of the collection of information on those who are respond, including the use of automated collection techniques or other forms of information technology.

HUD encourages interested parties to submit comment in response to these questions.

C. Authority

Section 3507 of the Paperwork Reduction Act of 1995, 44 U.S.C. 3507.

Colette Pollard,
Department Reports Management Officer Assistant, Office of the Chief Information Officer.

[FR Doc. 2021-03552 Filed 2-22-21; 8:45 am]

BILLING CODE 4210-67-P